DEPARTMENT OF TRANSPORTATION

Federal Aviation Administration

14 CFR Part 39

[Docket No. FAA-2005-21275; Directorate Identifier 2005-CE-28-AD; Amendment 39-14515; AD 2006-01-11 R1]

RIN 2120-AA64

Airworthiness Directives; The Cessna Aircraft Company Models 208 and 208B Airplanes

AGENCY: Federal Aviation Administration (FAA), DOT.

ACTION: Final rule; correction.

SUMMARY: This document clarifies the intent of AD 2006-01-11, which was published in the Federal Register on January 12, 2006 (71 FR 1941). AD 2006-01-11 applies to Cessna Models 208 and 208B airplanes and requires the installation of a pilot assist handle and deicing boots on the cargo pod and landing gear fairings; and the incorporation of changes to the Pilot's Operating Handbook (POH) and FAA-Approved Airplane Flight Manual (AFM). The compliance time for the AFM/POH change currently reads “prior to further flight” after the installation of the pilot assist handle, which is required within 125 days after the effective date. The AFM/POH change is related to operation in ground icing conditions and should not be attributed to the pilot assist handle installation. Therefore, the compliance time should also be within 125 days after the effective date. Additionally, the requirement of installing the accessory kit or installing a placard should only apply to those airplanes equipped with a cargo pod and pneumatic deicing boots. The way it currently is written makes it apply to all airplanes equipped with pneumatic deicing boots. This AD action rewords the compliance time and the wording for the installation or placard requirement to reflect the above concerns.

DATES: The effective date of this AD remains February 22, 2006.

As of February 22, 2006, the Director of the Federal Register previously approved the incorporation by reference of certain publications listed in the regulation.

ADDRESSES: To get the service information identified in this AD, contact The Cessna Aircraft Company, Product Support, P.O. Box 7706, Wichita, Kansas 67277-7706; telephone: (316) 517-5800; facsimile: (316) 942-9006.

To view the AD docket, go to the Docket Management Facility; U.S. Department of Transportation, 400 Seventh Street, SW., Nassif Building, Room PL-401, Washington, DC 20590-001 or on the Internet at http://dms.dot.gov. The docket number is FAA-2005-21275; Directorate Identifier 2005-CE-28-AD.

FOR FURTHER INFORMATION CONTACT: Paul Pellicano, Aerospace Engineer (Icing), FAA, Small Airplane Directorate, c/o Atlanta Aircraft Certification Office (ACO), One Crown Center, 1985 Phoenix Boulevard, Suite 450, Atlanta, GA 30349; telephone: (770) 703-6064; facsimile: (770) 703-6097; or Robert P. Busto, Aerospace Engineer, Wichita ACO, FAA, 1801 Airport Road, Wichita, Kansas 67209; telephone: (316) 946-4157; facsimile: (316) 946-4107.

SUPPLEMENTARY INFORMATION:

Discussion

What Prior Action Did FAA Take on This Subject?

On January 5, 2006, FAA issued AD 2006-01-11, Amendment 39-14450 (71 FR 1941, January 12, 2006), which applies to certain Cessna Models 208 and 208B airplanes.

AD 2006-01-11 requires:

• Installation of a pilot assist handle (part number (P/N) SK208-146-2) (or FAA-Approved equivalent part number) and deicing boots on the cargo pod and landing gear fairings (part number (P/N) AK208-6C) (or FAA-approved equivalent part number); and

• Incorporation of changes to the Pilot's Operating Handbook (POH) and FAA-approved Airplane Flight Manual (AFM).

Why Is It Necessary To Change AD 2006-01-11?

The compliance time for the AFM/POH change currently reads “prior to further flight” after the installation of the pilot assist handle, which is required within 125 days after the effective date. The AFM/POH change is related to operation in ground icing conditions and should not be attributed to the pilot assist handle installation. Therefore, the compliance time should also be within 125 days after the effective date. Additionally, the requirement of installing the accessory kit or installing a placard should only apply to those airplanes equipped with a cargo pod and pneumatic deicing boots. The way it currently is written makes it apply to all airplanes equipped with pneumatic deicing boots. This installation is not possible for those airplanes that are not equipped with a cargo pod and pneumatic deicing boots.

Correction of Publication

What Is the Purpose of This Document?

This document clarifies AD 2006-01-11 to allow compliance with the AD and assure the intent of the current AD is clear. It also adds the amendment to section 39.13 of the Federal Aviation Regulations (14 CFR 39.13).

We are clarifying and re-issuing the AD in its entirety to help eliminate any confusion that AD 2006-01-11 may have created.

Is It Necessary To Seek Public Input?

Since this action only clarifies the intent, it has no adverse economic impact and imposes no additional burden on any person than would have been necessary to comply with AD 2006-01-11. Therefore, FAA has determined that prior notice and opportunity for public comment are unnecessary.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2006-01-11, Amendment 39-14450 (71 FR 1941, January 12, 2006), and by adding a new AD to read as follows:

2006-01-11 R1 The Cessna Aircraft Company: Amendment 39-14515; Docket No. FAA-2005-21275; Directorate Identifier 2005-CE-28-AD.

When Does This AD Become Effective?

(a) This AD becomes effective on February 22, 2006. The effective date of this AD is retained from AD 2006-01-11.

What Other ADs Are Affected by This Action?

(b) This AD revises AD 2006-01-11, Amendment 39-14450.

What Airplanes Are Affected by This AD?

(c) This AD affects Models 208 and 208B, all serial numbers, that are certificated in any category.

What Is the Unsafe Condition Presented in This AD?

(d) This AD is the result of reports of several accidents involving the affected airplanes during operations in-flight and in ground icing conditions. We are issuing this AD to provide a safe method to detect ice, snow, frost, or slush adhering to the upper wing (a critical surface) prior to takeoff; and to reduce drag in-flight by shedding ice on the cargo pod and landing gear fairings. Ice adhering to the upper wing surface, cargo pod, or landing gear fairings could result in a reduction in airplane performance with the consequences that the airplane cannot perform a safe takeoff or climb or maintain altitude.

What Must I Do To Address This Problem?

(e) To address this problem, you must do the following:

Actions | Compliance | Procedures
(1) Install the pilot assist handle SK208-146-2 subkit (part number (P/N) SK208-146-2) (or FAA-approved equivalent part number) if the airplane will be operated in the ground icing conditions defined under “Visual/Tactile Check” in the LIMITATIONS section of the AFM after the compliance time | Within the next 125 days after February 22, 2006 (the effective date of this AD), unless already done | Install the pilot assist handle SK208-146-2 subkit (part number (P/N) SK208-146-2) (or FAA-approved equivalent part number) following step 4 of the Accomplishment Instructions of Cessna Caravan Service Kit No. SK208-146, dated October 4, 2004.
(2) 14 CFR 21.303 allows for replacement parts through parts manufacturer approval (PMA). The phrase “or FAA-approved equivalent part number” in this AD is intended to signify those parts that are PMA parts approved through identicality to the design of the part under the type certificate and parts to correct the unsafe condition under PMA (other than identicality). Equivalent replacement parts to correct the unsafe condition under PMA (other than identicality) may also be installed provided they meet current airworthiness standards, which include those actions cited in this AD | Not Applicable | Not Applicable.
(3) Insert the text in Appendix 1 of this AD after the “OTHER LIMITATIONS” in the LIMITATIONS section of the Cessna Models 208 or 208B Pilot's Operating Handbook (POH) and FAA-approved Airplane Flight Manual (AFM) | Within the next 125 days after February 22, 2006 (the effective date of this AD) unless already done | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).
(4) For Cessna Model 208B with Pratt & Whitney of Canada Ltd., PT6A-114 Turbo Prop engine installed (600 SHP) or equipped with a cargo pod and pneumatic deicing boots, do one of the following: (i) Install Cessna Accessory Kit AK208-6C per Cessna Service Bulletin CAB95-19; or (ii) Install a placard in view of the pilot which states “This airplane is prohibited from flight in known or forecast icing” | Within the next 125 days after February 22, 2006 (the effective date of this AD), unless already done | Install the cargo pod and landing gear fairing deice kit (part number (P/N) AK208-6C2) (or FAA-approved equivalent part number) following the Installation Instructions of Cessna Caravan Service Bulletin No. CAB95-19, dated October 13, 1995, and Cessna Caravan Accessory Kit No. AK208-6C, Revision C, dated August 27, 1993. The owner/operator holding at least a private pilot certificate as authorized by section 43.7 of the Federal Aviation Regulations (14 CFR 43.7) may install the placard as specified in paragraph (e)(4) of this AD. You may insert a copy of this AD into the appropriate sections of the POH to comply with this action. Make an entry into the aircraft records showing compliance with portion of the AD in accordance with section 43.9 of the Federal Aviation Regulations (14 CFR 43.9).
(5) For all Cessna Model 208 and 208B airplanes equipped with a cargo pod and pneumatic deicing boots and not included in paragraph (e)(4) of this AD, do one of the following: (i) Install Cessna Accessory Kit AK208-6C per Cessna Service Bulletin CAB93-20 Revision 1; or (ii) Install a placard in view of the pilot with the following words: “This airplane is prohibited from flight in known or forecast icing” | Within the next 125 days after February 22, 2006 (the effective date of this AD), unless already done | Do the installation following the Installation Instructions of Cessna Caravan Service Bulletin No. CAB93-20, Revision 1, dated October 13, 1995, and Cessna Caravan Accessory Kit No. AK208-6C, Revision C, issued August 27, 1993. The owner/operator holding at least a private pilot certificate as authorized by section 43.7 of the Federal Aviation Regulations (14 CFR 43.7) may install the placard as specified in paragraph (e)(5)(ii) of this AD. Make an entry into the aircraft records showing compliance with portion of the AD in accordance with section 43.9 of the Federal Aviation Regulations (14 CFR 43.9).
(6) Insert the text in Appendix 2 of this AD in the “KINDS OF OPERATION LIMITS” in the LIMITATIONS section of the Cessna Models 208 or 208B Pilot's Operating Handbook (POH) and FAA-approved Airplane Flight Manual (AFM) | Before further flight after compliance to paragraph (e)(4)(i) or (e)(5)(i) of this AD | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).
(7) Delete the text in Appendix 3 of this AD from the “REQUIRED EQUIPMENT” in the LIMITATIONS section of the Cessna Models 208 or 208B Pilot's Operating Handbook (POH) and FAA-approved Airplane Flight Manual (AFM) Supplement S1 “Known Icing Equipment” | Before further flight after compliance to paragraph (e)(4)(i) or (e)(5)(i) of this AD | The owner/operator holding at least a private pilot certificate as authorized by section 43.7 of the Federal Aviation Regulations (14 CFR 43.7) may insert the information into the POH as specified in paragraph (e)(3) of this AD. You may insert a copy of this AD into the appropriate sections of the POH to comply with this action. Make an entry into the aircraft records showing compliance with portion of the AD in accordance with section 43.9 of the Federal Aviation Regulations (14 CFR 43.9).

Note: Cessna Caravan Service Bulletin No. CAB04-9, dated October 4, 2004, also addresses the installation of the pilot assist handle.

May I Request an Alternative Method of Compliance?

(f) The Manager, Wichita Aircraft Certification Office (ACO), FAA, has the authority to approve alternative methods of compliance for this AD, if requested using the procedures found in 14 CFR 39.19. For information on any already approved alternative methods of compliance, contact Paul Pellicano, Aerospace Engineer (Icing), FAA, Small Airplane Directorate, c/o Atlanta ACO, One Crown Center, 1985 Phoenix Boulevard, Suite 450, Atlanta, GA 30349; telephone: (770) 703-6064; facsimile: (770) 703-6097; or Robert P. Busto, Aerospace Engineer, Wichita ACO, FAA, 1801 Airport Road, Wichita, Kansas 67209; telephone: (316) 946-4157; facsimile: (316) 946-4107.

Does This AD Incorporate Any Material by Reference?

(g) You must do the actions required by this AD following the instructions in Cessna Caravan Service Kit No. SK208-146, dated October 4, 2004, and Cessna Caravan Accessory Kit No. AK208-6C, Revision C, dated August 27, 1993.

(1) On February 22, 2006 (71 FR 1941, January 12, 2006), and in accordance with 5 U.S.C. 552(a) and 1 CFR part 51, the Director of the Federal Register previously approved the incorporation by reference of Cessna Caravan Service Kit No. SK208-146, dated October 4, 2004, and Cessna Caravan Accessory Kit No. AK208-6C, Revision C, dated August 27, 1993.

(2) To get a copy of this service information, contact The Cessna Aircraft Company, Product Support, P.O. Box 7706, Wichita, Kansas 67277-7706; telephone: (316) 517-5800; facsimile: (316) 942-9006. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21275; Directorate Identifier 2005-CE-28-AD.

Appendix 1 to AD 2006-01-11 R1 Changes to the Cessna Models 208 or 208B Pilot's Operating Handbook (POH) and FAA-Approved Airplane Flight Manual

Affected Cessna Models 208 or 208B Pilot's Operating Handbook (POH) and FAA-Approved Airplane Flight Manual (AFM)

Insert the following text after the “OTHER LIMITATIONS” in the LIMITATIONS section of the Cessna Models 208 or 208B Pilot's Operating Handbook (POH) and FAA-Approved Airplane Flight Manual (AFM): COLD WEATHER OPERATIONS.

The airplane must be equipped with the following equipment when operating at an airport in the ground icing conditions defined under “Visual/Tactile Check” in the LIMITATIONS section:

1. Pilot assist handle, Cessna P/N SK208-146-2 (or FAA-approved equivalent part number).

Appendix 2 to AD 2006-01-11 R1 Changes to the Cessna Models 208 or 208B Pilot's Operating Handbook (POH) and FAA-Approved Airplane Flight Manual

Affected Cessna Models 208 or 208B Pilot's Operating Handbook (POH) and FAA-Approved Airplane Flight Manual (AFM)

Add the following to the equipment listed under “FLIGHT INTO KNOWN ICING” in the “KINDS OF OPERATION LIMITS” in the LIMITATIONS section of the FAA-Approved Airplane Flight Manual:

Lower main landing gear leading edge deice boots

Cargo pod nosecap deice boot

Appendix 3 to AD 2006-01-11 R1 Changes to the Cessna Models 208 or 208B Pilot's Operating Handbook (POH) and FAA-Approved Airplane Flight Manual Supplement S1

Affected Cessna Models 208 or 208B Pilot's Operating Handbook (POH) and FAA-Approved Airplane Flight Manual (AFM) Supplement S1

Remove the paragraph under “REQUIRED EQUIPMENT” in the Limitations section of the FAA-Approved Flight Manual Supplement S1 “Known Icing Equipment”, that currently reads as follows:

“The following additional equipment is not required for flight into icing conditions as defined by FAR 25, but may be installed on early serial airplanes by using optional accessory Kit AK208-6. On later serial airplanes, this equipment may be included with the flight into known icing package. If installed, this equipment must be fully operational:”

Issued in Kansas City, Missouri, on March 10, 2006.
Kim Smith,
Manager, Small Airplane Directorate, Aircraft Certification Service.

[FR Doc. 06-2546 Filed 3-15-06; 8:45 am]

BILLING CODE 4910-13-P